DEPARTMENT OF COMMERCE

National Oceanic and Atmospheric Administration

50 CFR Part 648

[Docket No. 000407096-0096-01; I.D. 101700A]

Fisheries of the Northeastern United States; Northeast Multispecies Fishery; Commercial Haddock Harvest

AGENCY: National Marine Fisheries Service (NMFS), National Oceanic and Atmospheric Administration (NOAA), Commerce.

ACTION: Removal of haddock daily trip limit.

SUMMARY: NMFS announces that the Administrator, Northeast Region, NMFS (Regional Administrator), has projected that less than 75 percent of the haddock target total allowable catch (TAC) will be harvested (4,689 metric tons (mt) of the 6,252 mt target TAC) for the 2000 fishing year under the present landing limit, so the daily landing limit is being suspended until March 1, 2001. Therefore, between October 26, 2000, and February 28, 2001, vessels fishing under a multispecies day-at-sea (DAS) may possess no more than 50,000 lb (22,680 kg) per trip, but are not restricted to a limit per DAS. Unless subsequent projections indicate some other measure is required to ensure that the haddock target TAC is harvested but not exceeded, the existing daily trip limit of 5,000 lb (2,268 kg) per DAS will go back into effect on March 1.

DATES: Effective October 26, 2000, through February 28, 2001.

FOR FURTHER INFORMATION CONTACT: Rick Pearson, Fishery Policy Analyst, 978-281-9279.

SUPPLEMENTARY INFORMATION: Regulations implementing the haddock trip limit in Framework Adjustment 33 (65 FR 21658, April 24, 2000) became effective May 1, 2000. To ensure that haddock landings remain within the target TAC of 6,252 mt established for the 2000 fishing year, Framework 33 established an initial landing limit of 3,000 lb (1,360.8 kg) per DAS fished and 30,000 lb (13,608 kg) per trip maximum, followed by an increased landing limit of 5,000 lb (2,268 kg) per DAS and 50,000 lb (22,680 kg) per trip from October 1, 2000, through April 30, 2001. Framework 33 also provided a mechanism to adjust the haddock trip limit based upon the percentage of TAC which is projected to be harvested. Section 648.86(a)(1)(iii)(B) specifies that if the Regional Administrator has projected that less than 75 percent (4,689 mt) of the haddock target TAC will be harvested in the 2000 fishing year, the landing limit may be adjusted. Further, this section stipulates that NMFS will publish a notification in the Federal Register informing the public of the date of any changes to the landing limit.

Based on the available information, the Regional Administrator has projected that 4,689 mt will not be harvested by April 30, 2001, under the existing landing limit. The Regional Administrator has determined that removal of the daily landing limit of 5,000 lb (2,268 kg) per DAS through February 28, 2001, while retaining the 50,000 lb (22,680 kg) per trip possession limit, provides the industry with the opportunity to harvest at least 75 percent of the target TAC for the 2000 fishing year. However, because of difficulties inherent in collecting real-time haddock landings information, the Regional Administrator has determined that the daily trip limit will be reimposed on March 1, 2001, unless she can project that the haddock target TAC for fishing year 2000 will be harvested but not exceeded before the end of the fishing year. Therefore, pursuant to § 648.86(a)(1)(iii)(B), the haddock daily landing limit is suspended, while the 50,000 lb (22,680 kg) per trip maximum possession limit is retained, from October 26, 2000, until February 28, 2001. The Regional Administrator may adjust this possession limit again through publication of a notification in the Federal Register, pursuant to § 648.86(a)(1)(iii).

Classification

This action is required by 50 CFR part 648 and is exempt from review under Executive Order 12866.

Authority: 16 U.S.C. 1801 et seq.

Dated: October 18, 2000.
Bruce C. Morehead,
Acting Director, Office of Sustainable Fisheries, National Marine Fisheries Service.

[FR Doc. 00-27291; 10-19-00 4:52 pm]

BILLING CODE 3510-22-S